DEPARTMENT OF COMMERCE

Office of the Secretary

[Docket Number 040217057-4057-01]

Estimates of the Voting Age Population for 2003

AGENCY: Office of the Secretary, Commerce.

ACTION: General notice announcing population estimates.

SUMMARY: This notice announces the voting age population estimates, as of July 1, 2003, for each state and the District of Columbia. We are giving this notice in accordance with the 1976 amendment to the Federal Election Campaign Act, Title 2, United States Code, Section 441a(e).

FOR FURTHER INFORMATION CONTACT: John F. Long, Chief, Population Division, Bureau of the Census, Department of Commerce, Room 2011, Federal Building 3, Washington, DC 20233, telephone 301-763-2071.

SUPPLEMENTARY INFORMATION: Under the requirements of the 1976 amendment to the Federal Election Campaign Act, Title 2, United States Code, Section 441a(e), I hereby give notice that the estimates of the voting age population for July 1, 2003, for each state and the District of Columbia are as shown in the following table.

Estimates of the Population of Voting Age for Each State and the District of Columbia: July 1, 2003
[In Thousands]
Area | Population 18 and over
United States | 217,766
Alabama | 3,393
Alaska | 460
Arizona | 4,061
Arkansas | 2,044
California | 26,064
Colorado | 3,398
Connecticut | 2,648
Delaware | 619
District of Columbia | 455
Florida | 13,095
Georgia | 6,388
Hawaii | 960
Idaho | 994
Illinois | 9,423
Indiana | 4,592
Iowa | 2,251
Kansas | 2,028
Kentucky | 3,124
Louisiana | 3,319
Maine | 1,019
Maryland | 4,131
Massachusetts | 4,946
Michigan | 7,541
Minnesota | 3,811
Mississippi | 2,120
Missouri | 4,297
Montana | 702
Nebraska | 1,298
Nevada | 1,660
New Hampshire | 981
New Jersey | 6,507
New Mexico | 1,373
New York | 14,657
North Carolina | 6,320
North Dakota | 487
Ohio | 8,621
Oklahoma | 2,633
Oregon | 2,710
Pennsylvania | 9,535
Rhode Island | 832
South Carolina | 3,124
South Dakota | 569
Tennessee | 4,447
Texas | 15,878
Utah | 1,609
Vermont | 482
Virginia | 5,588
Washington | 4,635
West Virginia | 1,419
Wisconsin | 4,139
Wyoming | 380

I have certified these counts to the Federal Election Commission.

Dated: February 25, 2004.
Donald L. Evans,
Secretary, Department of Commerce.

[FR Doc. 04-4997 Filed 3-9-04; 8:45 am]

BILLING CODE 3510-07-P